FEDERAL COMMUNICATIONS COMMISSION

47 CFR Parts 2, 90, and 95

[WP Docket No. 07-100; FCC 10-75]

PLMR Licensing; Frequency Coordination and Eligibility Issues

AGENCY: Federal Communications Commission.

ACTION: Final rule; clarification.

SUMMARY: In this document, the Commission, on its own motion, clarifies certain rules adopted in a previous decision in this proceeding to further explain our analysis underlying this decision. We also clarify the rule change removing the frequency coordination requirement for applications to modify private land mobile radio licenses by reducing the authorized bandwidth.

FOR FURTHER INFORMATION CONTACT: Scot Stone, Wireless Telecommunications Bureau, at (202) 418-0638, or by e-mail at Scot.Stone@fcc.gov.

SUPPLEMENTARY INFORMATION: This is a summary of the Federal Communication Commission's Order on Reconsideration in WP Docket No. 07-100, FCC 10-75, adopted on May 4, 2010, and released on May 6, 2010. This document is available to the public at http://hraunfoss.fcc.gov/edocs_public/attachmatch/FCC-10-75A1.doc.

Synopsis of the Order on Reconsideration

1. In this Order on Reconsideration, we act on our own motion to clarify the bases for certain rule changes adopted in the above-captioned proceeding. In the Second Report and Order published at 75 FR 19277, April 14, 2010, in this proceeding, we amended our rules to provide that Wireless Medical Telemetry Service (WMTS) operations are not permitted in the portions of the 1427-1432 MHz band where non-medical telemetry has primary status. We take this opportunity to further explain our analysis underlying this decision. We also clarify the rule change removing the frequency coordination requirement for applications to modify private land mobile radio licenses by reducing the authorized bandwidth.

2. WMTS was established to enhance the reliability of medical telemetry equipment, and to ensure that wireless medical telemetry devices can operate free of harmful interference. The band 1427-1432 MHz is shared between medical and non-medical telemetry operations. Generally, WMTS has primary status in the lower half of the band, and non-medical telemetry is primary in the upper half. Our rules do not explicitly authorize WMTS systems to operate on a secondary basis on frequencies where non-medical telemetry is primary. In response to conflicting requests, the Notice of Proposed Rulemaking published at 72 FR 32582, June 13, 2007, in this proceeding sought comment on amending the rules to clarify whether such operations are permitted.

3. In the Second Report and Order, we concluded that secondary WMTS operations should not currently be authorized. We noted that the Commission created WMTS in order to make available spectrum where medical telemetry services could operate free from harmful interference, and expressed concern that the authorization of secondary WMTS operations could subject such operations to the same interference issues that the WMTS allocation was intended to address. Because the record suggested that WMTS devices can operate safely on a secondary basis under certain conditions, however, we sought comment in the Second Further Notice of Proposed Rule Making published at 75 FR 19340, April 14, 2010, on whether secondary WMTS operations should be sanctioned upon the adoption of adequate safeguards.

4. We take this opportunity to further clarify that our decision in the Second Report and Order not to permit additional secondary WMTS operations at this time was not based on a conclusion that operation of medical devices on a secondary basis is per se contrary to the public interest. Rather, we concluded only that appropriate and effective measures must be taken to detect and avoid harmful interference, and that the existing record did not provide a sufficient basis to determine that such measures could be developed. This decision pertained only to WMTS, taking into account the unique technical characteristics of the service, the current lack of safeguards in our rules to promote safe secondary operations, and the operations with which WMTS shares spectrum. Further, as noted above, the issue of whether to amend the rules to authorize secondary operations under appropriate conditions remains pending in this proceeding.

5. In addition, the Second Report and Order amended § 90.175(j) of the Commission's rules to remove the frequency coordination requirement for applications to modify existing licenses by reducing the authorized bandwidth. We found no need for a part 90 frequency coordinator to review such proposals in advance, because a simple reduction in authorized bandwidth cannot adversely impact co-channel or adjacent channel licensees. It may, however, increase the amount of power within a certain bandwidth. Consequently, we take this opportunity to remind licensees that the coordination and consent requirements set forth in § 1.924 of our rules regarding proposed new or modified operations in quiet zones continue to apply to such applications.

Marlene H. Dortch,
Secretary, Federal Communications Commission.

[FR Doc. 2010-12773 Filed 5-26-10; 8:45 am]

BILLING CODE 6712-01-P